DEPARTMENT OF ENERGY

Federal Energy Regulatory Commission

Combined Notice of Filings #1

Take notice that the Commission received the following electric corporate filings:

Docket Numbers: EC15-150-000.

Applicants: Banco Santander, S.A., Tonopah Solar I, LLC.

Description: Application for Authorization for Disposition of Jurisdictional Facilities and Requests for Confidential Treatment, Expedited Consideration, and Waivers of Banco Santander, S.A., et al.

Filed Date: 5/29/15.

Accession Number: 20150529-5507.

Comments Due: 5 p.m. ET 6/19/15.

Docket Numbers: EC15-151-000.

Applicants: Pilot Hill Wind, LLC.

Description: Application Pursuant to Section 203 of the Federal Power Act of Pilot Hill Wind, LLC for Authorization for Disposition of Jurisdictional Facilities and Request for Expedited Action.

Filed Date: 6/1/15.

Accession Number: 20150601-5432.

Comments Due: 5 p.m. ET 6/22/15.

Take notice that the Commission received the following exempt wholesale generator filings:

Docket Numbers: EG15-90-000.

Applicants: Adelanto Solar, LLC.

Description: Notice of Self-Certification of Exempt Wholesale Generator Status of Adelanto Solar, LLC.

Filed Date: 5/29/15.

Accession Number: 20150529-5535.

Comments Due: 5 p.m. ET 6/19/15.

Docket Numbers: EG15-91-000.

Applicants: Adelanto Solar II, LLC.

Description: Notice of Self-Certification of Exempt Wholesale Generator Status of Adelanto Solar II, LLC.

Filed Date: 5/29/15.

Accession Number: 20150529-5536.

Comments Due: 5 p.m. ET 6/19/15.

Take notice that the Commission received the following electric rate filings:

Docket Numbers: ER10-2977-005.

Applicants: Mesquite Power, LLC.

Description: Supplement to May 5, 2015 Notice of Non-Material Change in Status of Mesquite Power, LLC.

Filed Date: 6/1/15.

Accession Number: 20150601-5409.

Comments Due: 5 p.m. ET 6/22/15.

Docket Numbers: ER12-778-002.

Applicants: Puget Sound Energy, Inc.

Description: Compliance filing per 35: Attachment H-1 Formula TX Rate Compliance Filing to be effective 6/1/2015.

Filed Date: 6/1/15.

Accession Number: 20150601-5117.

Comments Due: 5 p.m. ET 6/22/15.

Docket Numbers: ER12-1179-023.

Applicants: Southwest Power Pool, Inc.

Description: Compliance filing per 35: Compliance Filing in ER12-1179—Bid Limit for TCR Auction to be effective N/A.

Filed Date: 6/1/15.

Accession Number: 20150601-5125.

Comments Due: 5 p.m. ET 6/22/15.

Docket Numbers: ER12-2414-003.

Applicants: New York Independent System Operator, Inc.

Description: Compliance filing per 35: Compliance filing revision of BSM Rules to be effective 6/22/2012.

Filed Date: 6/1/15.

Accession Number: 20150601-5128.

Comments Due: 5 p.m. ET 6/22/15.

Docket Numbers: ER13-1928-004.

Applicants: Duke Energy Progress, Inc., Duke Energy Carolinas, LLC.

Description: Compliance filing per 35: Order No. 1000 Interregional—SERTP & PJM to be effective 1/1/2015.

Filed Date: 5/26/15.

Accession Number: 20150526-5302.

Comments Due: 5 p.m. ET 6/16/15.

Docket Numbers: ER14-2518-003.

Applicants: New York Independent System Operator, Inc.

Description: Compliance filing per 35: Outage States compliance with 4/30/15 order to be effective 5/1/2015.

Filed Date: 6/1/15.

Accession Number: 20150601-5127.

Comments Due: 5 p.m. ET 6/22/15.

Docket Numbers: ER15-704-003.

Applicants: Pacific Gas and Electric Company.

Description: Compliance filing per 35: Compliance Filing to Revise CCSF WDT SA Appendices B, C and D to be effective 7/1/2015.

Filed Date: 6/1/15.

Accession Number: 20150601-5124.

Comments Due: 5 p.m. ET 6/22/15.

Docket Numbers: ER15-1152-001.

Applicants: Southwest Power Pool, Inc.

Description: Compliance filing per 35: Compliance Filing in ER15-1152—Transitional ARR Allocation Process to be effective 5/1/2015.

Filed Date: 6/1/15.

Accession Number: 20150601-5104.

Comments Due: 5 p.m. ET 6/22/15.

Docket Numbers: ER15-1404-001.

Applicants: Mississippi Power Company.

Description: Compliance filing per 35: MRA 26 Rate Case Compliance Filing to be effective 4/1/2015.

Filed Date: 6/1/15.

Accession Number: 20150601-5126.

Comments Due: 5 p.m. ET 6/22/15.

Docket Numbers: ER15-1475-001.

Applicants: North Star Solar, LLC.

Description: Supplement to May 1, 2015 North Star Solar, LLC tariff filing amendment.

Filed Date: 6/1/15.

Accession Number: 20150601-5419.

Comments Due: 5 p.m. ET 6/22/15.

Docket Numbers: ER15-1821-000.

Applicants: J. Aron & Company.

Description: Section 205(d) rate filing per 35.13(a)(2)(iii): Category 1 Seller Request for Central to be effective 5/30/2015.

Filed Date: 5/29/15.

Accession Number: 20150529-5449.

Comments Due: 5 p.m. ET 6/19/15.

Docket Numbers: ER15-1822-000.

Applicants: NorthWestern Corporation.

Description: Initial rate filing per 35.12 SA 743—Agreement with Montana Environmental Trust Group to be effective 6/1/2015.

Filed Date: 5/29/15.

Accession Number: 20150529-5450.

Comments Due: 5 p.m. ET 6/19/15.

Docket Numbers: ER15-1823-000.

Applicants: Pacific Gas and Electric Company.

Description: Section 205(d) rate filing per 35.13(a)(2)(iii): Western WDT May 2015 Biannual Filing to be effective 8/1/2015.

Filed Date: 5/29/15.

Accession Number: 20150529-5474.

Comments Due: 5 p.m. ET 6/19/15.

Docket Numbers: ER15-1824-000.

Applicants: Pacific Gas and Electric Company.

Description: Section 205(d) rate filing per 35.13(a)(2)(iii): Western IA May 2015 Biannual Filing to be effective 8/1/2015.

Filed Date: 5/29/15.

Accession Number: 20150529-5475.

Comments Due: 5 p.m. ET 6/19/15.

Docket Numbers: ER15-1825-000.

Applicants: California Independent System Operator Corporation.

Description: Section 205(d) rate filing per 35.13(a)(2)(iii): 2015-05-28 RSI Phase 1A Tariff Amendment to be effective 1/10/2016.

Filed Date: 5/29/15.

Accession Number: 20150529-5477.

Comments Due: 5 p.m. ET 6/19/15.

Docket Numbers: ER15-1826-000.

Applicants: Entergy Services, Inc.

Description: Ninth Annual filing implementing Service Schedule MSS-3 Rough Production Cost Equalization Bandwidth Calculation of Entergy Services, Inc. on behalf of the Entergy Operating Companies.

Filed Date: 5/29/15.

Accession Number: 20150529-5499.

Comments Due: 5 p.m. ET 6/19/15.

Docket Numbers: ER15-1827-000.

Applicants: Southwest Power Pool, Inc.

Description: Section 205(d) rate filing per 35.13(a)(2)(iii): 1148R21 American Electric Power NITSA and NOA to be effective 5/1/2015.

Filed Date: 6/1/15.

Accession Number: 20150601-5101.

Comments Due: 5 p.m. ET 6/22/15.

Docket Numbers: ER15-1828-000.

Applicants: Fenton Power Partners I, LLC.

Description: Section 205(d) rate filing per 35.13(a)(2)(iii): Market-Based Rate Tariff Revision & Request for Notice Requirement Waiver to be effective 6/1/2015.

Filed Date: 6/1/15.

Accession Number: 20150601-5102.

Comments Due: 5 p.m. ET 6/22/15.

Docket Numbers: ER15-1829-000.

Applicants: Hoosier Wind Project, LLC.

Description: Section 205(d) rate filing per 35.13(a)(2)(iii): Market-Based Rate Tariff Revision & Request for Notice Requirement Waiver to be effective 6/1/2015.

Filed Date: 6/1/15.

Accession Number: 20150601-5107.

Comments Due: 5 p.m. ET 6/22/15.

Docket Numbers: ER15-1830-000.

Applicants: Wapsipinicon Wind Project, LLC.

Description: Section 205(d) rate filing per 35.13(a)(2)(iii): Market-Based Rate Tariff Revision & Request for Notice Requirement Waiver to be effective 6/1/2015.

Filed Date: 6/1/15.

Accession Number: 20150601-5108.

Comments Due: 5 p.m. ET 6/22/15.

Docket Numbers: ER15-1831-000.

Applicants: AEP Texas Central Company.

Description: Section 205(d) rate filing per 35.13(a)(2)(iii): TCC-TNC-Brazos Electric Power Cooperative Amend & Restated TSA to be effective 5/5/2015.

Filed Date: 6/1/15.

Accession Number: 20150601-5112.

Comments Due: 5 p.m. ET 6/22/15.

Docket Numbers: ER15-1832-000.

Applicants: AEP Texas North Company.

Description: Section 205(d) rate filing per 35.13(a)(2)(iii): TCC-TNC-Brazos Electric Cooperative Amend & Restated TSA Concurrence to be effective 5/5/2015.

Filed Date: 6/1/15.

Accession Number: 20150601-5114.

Comments Due: 5 p.m. ET 6/22/15.

Docket Numbers: ER15-1833-000.

Applicants: Duke Energy Indiana, Inc.

Description: Tariff Withdrawal per 35.15: Cancellation of DMOC Tariff Volume No. 6 and No. 7 to be effective 8/1/2015.

Filed Date: 6/2/15.

Accession Number: 20150602-5009.

Comments Due: 5 p.m. ET 6/23/15.

Docket Numbers: ER15-1834-000.

Applicants: Duke Energy Ohio, Inc.

Description: Tariff Withdrawal per 35.15: Cancellation of DMOC Tariff Volume No. 6 and No. 7 to be effective 8/1/2015.

Filed Date: 6/2/15.

Accession Number: 20150602-5011.

Comments Due: 5 p.m. ET 6/23/15.

Docket Numbers: ER15-1835-000.

Applicants: New York Independent System Operator, Inc., Niagara Mohawk Power Corporation.

Description: Section 205(d) rate filing per 35.13(a)(2)(iii): NMPC—Fortistar LGIA SA No. 2220 to be effective 6/1/2015.

Filed Date: 6/2/15.

Accession Number: 20150602-5018.

Comments Due: 5 p.m. ET 6/23/15.

Docket Numbers: ER15-1836-000.

Applicants: PPL Electric Utilities Corporation.

Description: Notice of Cancellation of Interconnection Agreements of PPL Electric Utilities Corporation.

Filed Date: 5/29/15.

Accession Number: 20150529-5500.

Comments Due: 5 p.m. ET 6/19/15.

Take notice that the Commission received the following electric securities filings:

Docket Numbers: ES15-31-000.

Applicants: Ameren Transmission Company of Illinois.

Description: Application for Authorization under Federal Power Act Section 204 of Ameren Transmission Company of Illinois.

Filed Date: 5/29/15.

Accession Number: 20150529-5531.

Comments Due: 5 p.m. ET 6/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2015.
Nathaniel J. Davis, Sr.,
Deputy Secretary.

[FR Doc. 2015-14014 Filed 6-8-15; 08:45 am]

BILLING CODE 6717-01-P